FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 7, 2019.

A. Federal Reserve Bank of St. Louis (David L. Hubbard, Senior Manager) P.O. Box 442, St. Louis, Missouri 63166-2034. Comments can also be sent electronically to Comments.applications@stls.frb.org:

1. The Merkel Revocable Trust, Robert J. Merkle Sr. and Sarah E. Merkle as co-trustees, all of El Dorado, Arkansas; individually and as part of a family control group that also includes the Robert J. Merkle Insurance Trust, Robert J. Merkle, Jr. as trustee, the Robert J. Merkle Stock Trust, Robert J. Merkle, Jr. as trustee, all of Dallas, Texas; and Margaret A. Merkle Niel, individually and as UTMA voting custodian for Elizabeth Tyler Niel, both of El Dorado, Arkansas, to retain voting shares of First Financial Banc Corporation, parent holding company of First Financial Bank, both of El Dorado, Arkansas.

Board of Governors of the Federal Reserve System, September 11, 2019.
Yao-Chin Chao,
Assistant Secretary of the Board.

[FR Doc. 2019-19988 Filed 9-13-19; 8:45 am]

BILLING CODE P